DEPARTMENT OF HOUSING AND URBAN DEVELOPMENT

[Docket No. FR-5477-N-27]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street, SW., Room 7266, Washington, DC 20410; telephone (202) 708-1234; TTY number for the hearing-and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Department of the Army, Office of the Assistant Chief of Staff for Installation Management, DAIM-ZS, Room 8536, 2511 Jefferson Davis Hwy, Arlington, VA 22202: (571)-256-8145; COE: Mr. Scott Whiteford, Army Corps of Engineers, Real Estate, CEMP-CR, 441 G Street, NW., Washington, DC 20314; (202) 761-5542; Energy: Mr. Mark Price, Department of Energy, Office of Engineering & Construction Management, MA-50, 1000 Independence Ave., SW., Washington, DC 20585: (202) 586-5422; GSA: Mr. John E.B. Smith, General Services Administration, Office of Real Property Utilization and Disposal, 1800 F Street, NW., Room 7040 Washington, DC 20405; (202) 501-0084; (These are not toll-free numbers).

Dated: June 30, 2011.
Mark R. Johnston,
Deputy Assistant Secretary for Special Needs.

TITLE V, FEDERAL SURPLUS PROPERTY PROGRAM FEDERAL REGISTER REPORT FOR 07/08/2011

Suitable/Available Properties

Building

Minnesota

Bldg. 921

W. Main St.

Paynesville MN

Landholding Agency: GSA

Property Number: 54201120017

Status: Excess

GSA Number: 1-D-MN-0591

Comments: Bldg: 5,486 sf, Land: 3.9 acres, current use: Admin./Training Facility

Unsuitable Properties

Building

Georgia

7 Bldgs.

5625 Anderson Hwy

Hartwell GA 30643

Landholding Agency: COE

Property Number: 31201120011

Status: Unutilized

Directions: 16029, 16555, 16613, 16844, 17701, 18405, 19188

Reasons: Extensive deterioration

Unsuitable Properties

Building

Illinois

Bldg. 649

Philip H. Sheridan Reserve Ctr.

Ft. Sheridan IL

Landholding Agency: Army

Property Number: 21201120107

Status: Unutilized

Reasons: Extensive deterioration

Bldg. 141

COL P. Schulstad USARC

Arlington Heights IL

Landholding Agency: Army

Property Number: 21201120108

Status: Unutilized

Reasons: Extensive deterioration

St. Louis District

Rend Lake Project Office

Benton IL 62812

Landholding Agency: COE

Property Number: 31201120006

Status: Unutilized

Reasons: Extensive deterioration

Unsuitable Properties

Building

Kansas

Marion Reservoir

Cottonword Point

Marion KS

Landholding Agency: COE

Property Number: 31201120001

Status: Underutilized

Reasons: Extensive deterioration

Mississippi

Old Uithoven Homestead

Tenn-Tom Project

Columbus MS 39701

Landholding Agency: COE

Property Number: 31201120004

Status: Unutilized

Reasons: Extensive deterioration

Unsuitable Properties

Building

Mississippi

One Eaton Homestead

Tenn-Tom Project Office

Columbus MS 39701

Landholding Agency: COE

Property Number: 31201120005

Status: Unutilized

Reasons: Extensive deterioration

Missouri

St. Louis District

Foot Arsenal Rd.

St. Louis MO

Landholding Agency: COE

Property Number: 31201120003

Status: Unutilized

Reasons: Extensive deterioration

Unsuitable Properties

Building

Missouri

2 Bldgs.

Clearwater Lake Project

Piedmont MO

Landholding Agency: COE

Property Number: 31201120008

Status: Unutilized

Directions: House w/Garage

Reasons: Secured Area

New Mexico

Santa Rosa State Park

2528 Joe & Louise Page Rd.

Santa Rosa NM 88435

Landholding Agency: COE

Property Number: 31201120002

Status: Unutilized

Directions: SNROSA-6011 AND SNROSA-8312

Reasons: Extensive deterioration

Unsuitable Properties

Building

New York

Trailer 505

Brookhaven Nat'l Lab

Upton NY 11973

Landholding Agency: Energy

Property Number: 41201120004

Status: Excess

Reasons: Secured Area

Texas

Brookdale Park Restroom

1625 Brookdale Park Rd.

Allen TX

Landholding Agency: COE

Property Number: 31201120009

Status: Underutilized

Reasons: Extensive deterioration

Unsuitable Properties

Building

Texas

Bldg.28838

Friendship Park Campgroud Bathroom

Granger TX

Landholding Agency: COE

Property Number: 31201120010

Status: Unutilized

Reasons: Extensive deterioration

Lake Texoma

Overlook and Burns Run West

Denison TX

Landholding Agency: COE

Property Number: 31201120013

Status: Underutilized

Reasons: Extensive deterioration

Unsuitable Properties

Building

Washington

Bldg. T-17

McNary Lock and Dam Project

Pasco WA 99301

Landholding Agency: COE

Property Number: 31201120007

Status: Unutilized

Reasons: Extensive deterioration

Wisconsin

Bldgs. 302 and 303

USARC

Milwaukee WI

Landholding Agency: Army

Property Number: 21201120109

Status: Unutilized

Reasons: Secured Area

[FR Doc. 2011-16916 Filed 7-7-11; 8:45 am]

BILLING CODE 4210-67-P